DEPARTMENT OF TRANSPORTATION

Federal Aviation Administration

[Docket No. FAA-2010-0109]

Petition for Waiver of the Terms of the Order Limiting Operations at LaGuardia Airport

ACTION: Notice of reopening comment period to accept rebuttal comments.

SUMMARY: On February 18, 2010, the FAA published a notice in the Federal Register seeking comment on a joint waiver request filed by Delta Air Lines and US Airways seeking a waiver from the prohibition on purchasing operating authorizations (“slots” or “slot interest”) at LaGuardia Airport. The comment period closed on March 22, 2010. The FAA finds it in the public interest to reopen the comment period for seven days to give all interested parties additional time to file rebuttal comments. Any rebuttal comments filed by April 5, 2010, will be considered.

DATES: The comment period on the petition for waiver of the terms of the Order Limiting Operations at LaGuardia Airport opened on February 18, 2010, and closed on March 22, 2010, and is reopened for rebuttal comments until April 5, 2010.

ADDRESSES: You may send comments identified by Docket Number FAA-2010-0109 using any of the following methods:

■ Federal ERulemaking Portal: Go to http://www.regulations.gov and follow the instructions for sending your comments electronically.

■ Mail: Send comments to Docket Operations, M-30, U.S. Department of Transportation, 1200 New Jersey Avenue, SW., West Building Ground Floor, Room W12-140, Washington, DC 20590.

■ Fax: Fax comments to Docket Operations at 202-493-2251.

■ Hand Delivery: Bring comments to Docket Operations Room W12-140 of the West Building Ground Floor at 1200 New Jersey Avenue, SE., Washington, DC, between 9 a.m. and 5 p.m., Monday through Friday, except Federal holidays. For more information on the process, see the SUPPLEMENTARY INFORMATION section of this document.

Privacy: We will post all comments we receive without change, to http://www.regulations.gov, including any personal information you provide. Using the search function of our docket Web site, anyone can find and read the comments received into any of our dockets, including the name of the individual sending the comment or signing the comment for an association, business, labor union, etc. You may review DOT's complete Privacy Act Statement in the Federal Register published on April 11, 2000 (65 FR 19477-78) or you may visit http://Dockets Info.dot.gov.

Docket: To read background documents or comments received, go to http://www.regulations.gov at any time or to Docket Operations in Room W12-140 of the West Building Ground Floor at 1200 New Jersey Avenue, SE., Washington, DC, between 9 a.m. and 5 p.m., Monday through Friday, except Federal holidays.

FOR FURTHER INFORMATION CONTACT: Rebecca MacPherson, Assistant Chief Counsel for Regulations, by telephone at (202) 267-3073 or be electronic mail at Rebecca.Macpherson@faa.gov.

SUPPLEMENTARY INFORMATION: On February 18, 2010, the FAA published a notice in the Federal Register (75 FR 7306) seeking comment on a joint waiver request filed by Delta Air Lines and US Airways seeking a waiver from the prohibition on purchasing operating authorizations (“slots” or “slot interest”) at LaGuardia Airport. The comment period closed on March 22, 2010. The FAA finds it in the public interest to reopen the comment period for seven days to give all interested parties additional time to file rebuttal comments. Any rebuttal comments filed by April 5, 2010, will be considered.

Issued in Washington, DC, on March 29, 2010.
James W. Whitlow,
Acting Chief Counsel.

[FR Doc. 2010-7347 Filed 3-29-10; 4:15 pm]

BILLING CODE 4910-13-P